SECURITIES AND EXCHANGE COMMISSION

[REL. NO. 44839/September 24, 2001]

Securities Exchange Act of 1934; Order Regarding Government Securities Reconciliations

Section 36 of the Securities Exchange Act of 1934 ( “Exchange Act” ) authorizes the Commission, by rule, regulation, or order, to conditionally or unconditionally exempt any person, security, or transaction, or any class or classes of persons, securities, or transactions, from any provision or provisions of the Exchange Act or any rule or regulation thereunder, to the extent that such exemption is necessary or appropriate in the public interest, and is consistent with the protection of investors. In light of the events of September 11, 2001, and to facilitate the orderly reconciliation of transactions in government securities, the Commission has determined to provide broker-dealers with certain relief under Exchange Act Rules 15c3-1 and 15c3-3. Accordingly,

It is Ordered, pursuant to Section 36 of the Exchange Act, that,

Broker-dealers need not consider the 17th, 18th, 19th, 20th and 21st of September 2001, as business or calendar days for purposes of taking deductions when computing net capital under Rule 15c3-1 or for purposes of determining the amount of cash and/or qualified securities required to be maintained in a “Special Reserve Bank for the Exclusive Benefit of Customers” in accordance with the formula set forth in Exhibit A to Rule 15c3-3 arising from aged fail transactions in government securities and unresolved reconciliation differences with accounts or clearing corporations or depositories involving government securities.

It is Further Ordered, That

Broker-dealers subject to paragraph (e) of Rule 15c3-3 that must maintain with a bank a “Special Reserve Bank Account for the Exclusive Benefit of Customers” and perform the computation specified in paragraph (e)(1) of Rule 15c3-3 as of Friday, September 21, 2001, need not deposit until 1:00 pm on Tuesday, September 25, 2001, the amount of cash and/or qualified securities required to be maintained in such an account, rather than one hour after the opening of banking business on that day.

By the Commission.
Jonathan G. Katz,
Secretary.

[FR Doc. 01-24329 Filed 9-27-01; 8:45 am]

BILLING CODE 8010-01-M